DEPARTMENT OF HEALTH AND HUMAN SERVICES

Centers for Disease Control and Prevention

Discussions Regarding Exotic Animal Importation, Sale, and Distribution: Summary of Information Presented at Public Meeting

AGENCY: Centers for Disease Control and Prevention, Department of Health and Human Services.

ACTION: Notice; Summary of information presented at public meeting.

SUMMARY: On May 18, 2006, CDC hosted a public meeting on the subject of infectious disease threats associated with exotic animal importation and trade. CDC announced the public meeting through a Federal Register notice on April 20, 2006 (Volume 71, Number 76, Page 20402-20403). The public meeting was held at 130 Clairemont Ave., Decatur, GA 30030, from 1 p.m. to 5 p.m.

Background: Zoonoses are diseases that can be transmitted from animals to people. Wild exotic animals may carry a variety of known and emerging zoonotic pathogens. The American Veterinary Medical Association (AVMA), the Council of State and Territorial Epidemiologists (CSTE), and the National Association of State Public Health Veterinarians (NASPHV) have issued position statements calling for a coordinated federal approach to better control infectious disease risks associated with the exotic animal trade. To gather information on the topic, CDC organized this public meeting to share information concerning infectious disease risks associated with exotic animal importation and trade.

Meeting Summary: Five panelists were present to answer potential questions generated by public comments; these panelists represented NASPHV, HHS/CDC, the United States Department of Agriculture (USDA) Animal and Plant Health Inspection Service (APHIS) Animal Care, HHS/Food and Drug Administration (FDA), and the Department of the Interior (DOI) United States Fish and Wildlife Service (FWS). No questions or comments were posed to the panel during the public meeting.

A representative from HHS/CDC's Division of Global Migration and Quarantine provided an overview of the scope of the current issues and problems surrounding exotic animal importation and the spread of disease. Reasons for concern include a high-volume trade with rapid turnover of animals and the absence of health screening for animals prior to or after shipment. The meeting was opened by inviting comments and discussion regarding the exotic pet trade and associated infectious disease risks. The meeting facilitator addressed the time limits for speakers to a maximum of 15 minutes and reminded attendees that the discussion would be a matter of public record.

Two registered participants addressed the panel and meeting attendees. A representative of the Consortium for Conservation at Wildlife Trust, New York, read a statement describing the work of the Consortium on exotic animal importation with two primary research objectives: (1) to catalog the wildlife species that are legally imported to the United States each year and assess the risk of this trade introducing pathogens into the United States; and (2) to work with wildlife dealers to understand how the process of importation influences the risk of disease emergence. The Consortium hopes the findings of this scientific initiative will be used to make policy recommendations on disease screening for imported wild animals that will maintain the economic and other benefits of the trade while minimizing risks for introducing new diseases.

A representative of PETCO Animal Supplies read a statement indicating that PETCO opposes a possible ban on the importation of exotic animals and fully supports legal importation when proper biosecurity measures are taken to ensure the public health. Details of PETCO's current activities for ensuring animal and owner health and safety were presented. The representative from PETCO also stated that PETCO feels the legal trade of exotic animals has a positive economic effect on captive breeding and export programs in other countries by supporting the local economy and curbing poaching of animals from their native habitats.

After the registered participants read their prepared statements, 20 public comments that had been received prior to the meeting by e-mail and fax were read into the public record. Public comments submitted prior to the meeting included the following:

• Two requests from avian groups (representative of the Indonesian Parrot Project and a representative from the Avian Welfare Coalition) were submitted requesting that importation of all wild birds be banned except for legitimate scientific purposes. In addition, these statements suggested the risk of zoonoses from birds within the United States could be reduced through mandatory quarantine and laboratory testing of birds for interstate transport, enforcing bans on animal fighting, requiring a permit system for commercial sale of birds, and establishing strict biosecurity procedures for avian care facilities.

• A statement was submitted by a representative from the Captive Wild Animal Protection Coalition requesting a ban of all importation of exotic animals for private ownership, revising legislation to prevent commercial sale of wildlife, forming a single regulatory agency to oversee the exotic animal trade, introducing biosecurity measures to reduce disease risks from wild animals, prohibiting further breeding of wild or exotic animals by private individuals, prohibiting the trade or movement of wild/exotic animals already in private hands, and introducing a new licensing system to ensure that wild/exotic animals held by private individuals are registered.

• A statement from a private citizen was submitted opposing all exotic animal importation.

• A statement was submitted from a representative of the Conservator's Center, Inc. opposing actions to prevent organizations that are not members of the Association of Zoos and Aquariums (AZA) from participating in wild/exotic animal ownership. This statement indicated that private sector expertise was needed to facilitate protection of endangered species. This statement requested that any standards imposed on owners or importers be science-based and not influenced by politics or media attention.

• A statement was submitted from a representative of Big Cat Rescue requesting a prohibition on the trade of exotic cats due to public safety and disease concerns.

• A statement was submitted from a representative of the Idaho State Department of Agriculture supporting a comprehensive system to restrict importation of any exotic plants and animals, and to allow entry only after appropriate testing and quarantine.

• A statement was submitted from an owner of a pet monkey stating she believes all pet monkeys in private ownership were born in the United States, and that she does not believe there has been any transfer of disease from pet monkeys to owners in the past 20 years.

• A statement was submitted from a member of the Society for Small Nonintrusive Government stating that they support a complete ban on exotic animal importation and native wildlife export. This statement indicated an opposition to any federal regulation of exotic animal trade inside the U.S. borders, indicating it is a matter best regulated by individual states.

• A statement was submitted from a citizen indicating they felt that claims regarding infectious disease risks from exotic animals were over-exaggerated.

• Five statements were submitted from citizens suggesting that typical domestic pets carry a disease risk similar to that of exotic animals, and that living with pets is beneficial to humans. These statements indicated that exotic animals should be categorized in the same manner as domestic pets, and that proper husbandry and handwashing are common-sense approaches to reduce disease risks.

• Three statements were submitted from citizens indicating that ferrets are domestic species and should not be restricted.

• A statement was submitted from a citizen opposing removal of exotic animals from the commercial pet trade and indicating that better regulations, inspections, and oversight would be a more appropriate response.

• A statement was submitted from a citizen claiming that legislation of the exotic animal trade is best left to individual states, and opposing any more federal legislation on animal importation.

In summary, a variety of positions and views were submitted to the public meeting. Of the 22 statements received for consideration, 7 indicated a measure of support for increased restrictions on the importation and sale of exotic species, while 15 expressed support for alternatives to regulatory or legal restrictions or opposition to possible restrictions.

Dated: July 30, 2006.
James D. Seligman,
Chief Information Officer, Centers for Disease Control and Prevention.

[FR Doc. E6-12736 Filed 8-4-06; 8:45 am]

BILLING CODE 4163-18-P